DEPARTMENT OF HEALTH AND HUMAN SERVICES

National Institutes of Health

Center for Scientific Review; Amended Notice of Meeting

Notice is hereby given of a change in the meeting of the Molecular and Integrative Signal Transduction Study Section, October 10, 2013, 08:00 a.m. to October 11, 2013, 05:30 p.m., Sheraton Gunter Hotel, 205 East Houston Street, San Antonio, TX, 78205 which was published in the Federal Register on September 11, 2013, 78 FR 55752.

The meeting will be held at the National Institutes of Health, 6701 Rockledge Drive, Bethesda, MD 20892. The meeting will start on November 6, 2013 at 10:00 a.m. and end on November 7, 2013 at 05:00 p.m. The meeting is closed to the public.

Dated: October 24, 2013.
Carolyn A. Baum,
Program Analyst, Office of Federal Advisory Committee Policy.

[FR Doc. 2013-25515 Filed 10-28-13; 8:45 am]

BILLING CODE 4140-01-P